DEPARTMENT OF ENERGY

Federal Energy Regulatory Commission

[Project No. 12478-003]

Gibson Dam Hydroelectric Company, LLC, Montana; Notice of Availability of Final Environmental Assessment

In accordance with the National Environmental Policy Act of 1969 and the Federal Energy Regulatory Commission's (Commission) regulations, 18 CFR part 380 (Order No. 486, 52 FR 47897), the Office of Energy Projects has reviewed the application for license for the Gibson Dam Hydroelectric Project, located at the U.S. Department of the Interior, Bureau of Reclamation's Gibson dam on the Sun River in Lewis and Clark and Teton Counties, Montana, and has prepared a final environmental assessment (EA) for the project. The project would occupy a total of 68.5 acres of federal lands.

The final EA contains staff's analysis of the potential environmental impacts of the project and concludes that licensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-(866) 208-3676, or for TTY, (202) 502-8659.

You may also register online at http://www.ferc.gov/docs-filing/esubscription.asp to be notified via email of new filings and issuances related to this or other pending projects. For assistance, contact FERC Online Support.

For further information, contact Matt Cutlip at (503) 552-2762 or matt.cutlip@ferc.gov.

Dated: January 12, 2012.
Kimberly D. Bose,
Secretary.

[FR Doc. 2012-1084 Filed 1-19-12; 8:45 am]

BILLING CODE 6717-01-P